DEPARTMENT OF DEFENSE

Department of the Navy

Notice of Availability of Record of Decision for the Point Mugu Sea Range Environmental Impact Statement/Overseas Environmental Impact Statement

AGENCY: Department of the Navy, Department of Defense (DoD).

ACTION: Notice of Availability.

SUMMARY: The United States Department of the Navy, after carefully weighing the strategic, operational, and environmental consequences of the Proposed Action (Point Mugu Sea Range Final Environmental Impact Statement/Overseas Environmental Impact Statement (EIS/OEIS), published in the Federal Register on January 7, 2022), is announcing its decision to continue military readiness activities and increase research, development, acquisition, testing, evaluation, and training activities in the Point Mugu Sea Range as identified under Alternative 1 in the Point Mugu Sea Range Final EIS/OEIS.

ADDRESSES: The complete text of the Record of Decision (ROD) is available on the project website at www.pmsr-eis.com, along with the January 2022 Final EIS/OEIS and supporting documents. Single copies of the ROD are available upon request by contacting: Commander, Naval Air Warfare Center Weapons Division, Range Sustainability Office/Environmental, Code EB2R00M, 575 I Ave., Suite 1, PM53A, First Floor Room 101 (M/S0460), Point Mugu, CA 93042-5049, Attention: Point Mugu Sea Range EIS/OEIS Project Manager.

SUPPLEMENTARY INFORMATION: Implementation of Alternative 1 (Preferred Alternative) will enable the Navy, other U.S. military services, and its allies to meet their respective missions. The Navy's mission, under Title 10 United States Code (U.S.C.) Section 5062, is to maintain, train, and equip combat-ready military forces capable of winning wars, deterring aggression, and maintaining freedom of the seas. Alternative 1 includes activities that are the same or similar to those currently occurring, but that would occur at a more frequent level. Alternative 1 is based on increasing requirements to meet the current geopolitical environment, and supports the full spectrum of potential testing and training necessary to respond to a national emergency or crisis. The Navy will continue to implement the full suite of mitigation measures detailed in Chapter 5 (Standard Operating Procedures and Mitigation Measures) of the Point Mugu Sea Range Final EIS/OEIS to avoid or reduce potential environmental impacts during testing and training activities.

Dated: July 8, 2022.
J.M. Pike,
Commander, Judge Advocate General's Corps, U.S. Navy, Federal Register Liaison Officer.

[FR Doc. 2022-14975 Filed 7-13-22; 8:45 am]

BILLING CODE 3810-FF-P